NATIONAL CREDIT UNION ADMINISTRATION

12 CFR Parts 703, 790, 791

Technical Corrections

AGENCY: National Credit Union Administration.

ACTION: Final rule.

SUMMARY: The National Credit Union Administration (NCUA) Board is issuing a rule to make certain technical corrections. The rule corrects titles of some NCUA offices and reorganizes the section describing the central and regional office organization. The NCUA Board is also making a minor revision to its own rules of procedure to clarify when notation voting is appropriate.

DATES: This rule is effective September 22, 2005.

FOR FURTHER INFORMATION CONTACT: Moisette Green, Staff Attorney, Division of Operations, Office of General Counsel, at the National Credit Union Administration, 1775 Duke Street, Alexandria, Virginia 22314-3428 or telephone: (703) 518-6540.

SUPPLEMENTARY INFORMATION:

A. Background

The NCUA Board reorganized a few offices within the central office of the agency as a result of the fiscal year 2005 (FY05) budget review. The Board's goals included improving the efficiency of NCUA operations, clarifying central office functions and extending assistance to small credit unions.

As part of the reorganization, the Board reassigned some existing NCUA positions and resources to the Office of Credit Union Development and renamed it as the Office of Small Credit Union Initiatives. This change recognizes the important role small credit unions, which represent about one-half of all credit unions, play in the credit union movement and provides additional focus within NCUA on the problems small credit unions face.

The Board also restructured the Office of Strategic Program Support and Planning when it approved the FY05 budget. The Board reorganized this staff to achieve more effective operations and better respond to NCUA's emerging needs and renamed the office as the Office of Capital Markets and Planning to reflect its purpose and function more accurately.

Part 790 describes NCUA's organization. Due to the renaming of these offices, the Board revises §§ 790.2(b)(12) and (13) to delete the references to the “Office of Credit Union Development” and “Office of Strategic Program Support and Planning.” These references are replaced with “Office of Small Credit Union Initiatives” and “Office of Capital Markets and Planning” respectively. The Board also makes a conforming change to § 703.19. Accordingly, the Board revises §§ 703.19(c), 790.2(b)(12) and (13) to make this correction.

The Board also revises § 790.2(b)(4) to describe graphics as an example of the administrative services provided by the Office of the Chief Financial Officer instead of a responsibility of the Office of Public and Congressional Affairs.

Additionally, the Board has a policy of continually reviewing NCUA regulations to “update, clarify and simplify existing regulations and eliminate redundant and unnecessary provisions.” NCUA Interpretive Rulings and Policy Statement (IRPS) 87-2, Developing and Reviewing Government Regulations. The NCUA staff's most recent review of NCUA's regulations revealed the need for a few minor updates and corrections.

The description of the NCUA Central Liquidity Facility (CLF) is currently placed within the description of the Office of Examination and Insurance. The CLF is an instrumentality of the United States established under Title III of the Federal Credit Union Act, 12 U.S.C. 1795-1795k, and should be described in a separate paragraph in § 790.2. Accordingly, the Board redesignates § 790.2(b)(5)(ii) as a new paragraph § 790.2(b)(15) to make this correction.

The NCUA Board has reviewed the rules governing its procedures in Part 791. Specifically, Board is revising § 791.4 to reflect when it may consider matters by notation voting. When the rule was approved in 1980, the Board described matters it would consider by notation voting with the word “routine,” intending to restrict the use of this method of acting. The Board continues to believe notation voting should not be used for substantive decisions of significant, broad impact on credit unions. To clarify the rule and provide the Board with additional flexibility, while complying the Government in the Sunshine Act, 5 U.S.C. 552b, the Board revises § 791.4(b)(1) by replacing the word “routine” with the words “administrative or time sensitive.”

B. Regulatory Procedures

Final Rule Under the Administrative Procedure Act

The amendments in this rule are technical rather than substantive or involve only agency rules governing internal procedure. NCUA finds good cause that notice and public comment are unnecessary under section 553(b)(B) of the Administrative Procedure Act (APA). 5 U.S.C. 553(b)(B). NCUA also finds good cause to dispense with the 30-day delayed effective date requirement under section 553(d)(3) of the APA. The rule will, therefore, be effective immediately upon publication.

Regulatory Flexibility Act

The Regulatory Flexibility Act requires NCUA to prepare an analysis to describe any significant economic impact a rule may have on a substantial number of small entities, those credit unions with less than ten million dollars in assets. This rule makes technical corrections and revises the Board's internal procedural rules, so it will not have a significant economic impact on a substantial number of small credit unions, and, therefore, a regulatory flexibility analysis is not required.

Paperwork Reduction Act

NCUA has determined that this rule will not increase paperwork requirements under the Paperwork Reduction Act of 1995 and regulations of the Office of Management and Budget.

Executive Order 13132

Executive Order 13132 encourages independent regulatory agencies to consider the impact of their actions on state and local interests. In adherence to fundamental federalism principles, the NCUA, an independent regulatory agency as defined in 44 U.S.C. 3502(5), voluntarily complies with the executive order. This rule will not have substantial direct effects on the states, on the relationship between the national government and the states, or on the distribution of power and responsibilities among the various levels of government. The NCUA has determined that this rule does not constitute a policy that has federalism implications for purposes of the executive order.

The Treasury and General Government Appropriations Act, 1999—Assessment of Federal Regulations and Policies on Families

NCUA has determined that this rule will not affect family well-being within the meaning of section 654 of the Treasury and General Government Appropriations Act, 1999, Pub. L. 105-277, 112 Stat. 2681 (1998).

By the National Credit Union Administration Board on September 15, 2005.
Mary Rupp,
Secretary of the Board.

Accordingly, the NCUA amends 12 CFR parts 703, 790, and 791 as follows:

PART 703—INVESTMENT AND DEPOSIT ACTIVITIES

1. The authority citation for part 703 continues to read as follows:

Authority: 12 U.S.C. 1757(7), 1757(8), 1757(15).

§ 703.19 [Amended]

2. In 12 CFR 703.19(c) remove the words “Office of Strategic Program Support and Planning” and add, in their place, the words “Office of Capital Markets and Planning”.

PART 790—DESCRIPTION OF NCUA; REQUESTS FOR AGENCY ACTION

3. The authority citation for part 790 continues to read as follows:

Authority: 12 U.S.C. 1766, 1789, and 1795f.

§ 790.2 [Amended]

4. Amend § 790.2 as follows:

a. In the table below, for 12 CFR 790.2(b), remove the title indicated in the left column from wherever it appears in the section, and add the title indicated in the right column:

Remove | Add
Office of Credit Union Development | Office of Small Credit Union Initiatives.
Office of Strategic Program Support and Planning | Office of Capital Markets and Planning.

b. Redesignate paragraph (b)(5)(i) as paragragh (b)(5), and paragraph (b)(5)(ii) as new paragraph (b)(15).

c. Add the word “graphics;” in the last sentence of paragraph (b)(4) after the word “printing;” and remove the last sentence of paragraph (b)(11).

PART 791—RULES OF NCUA BOARD PROCEDURE; PROMULGATION OF NCUA RULES AND REGULATIONS; PUBLIC OBSERVATION OF NCUA BOARD MEETINGS

5. The authority citation for part 791 continues to read as follows:

Authority: 12 U.S.C. 1766, 1789 and 5 U.S.C. 552b.

§ 791.4 [Amended]

6. In 12 CFR 791.4(b)(1), remove the word “routine” and add, in its place, the words “administrative or time sensitive, for example, enforcement or interagency actions requiring prompt Board action”.

[FR Doc. 05-18747 Filed 9-21-05; 8:45 am]

BILLING CODE 7535-01-P